DEPARTMENT OF JUSTICE

Notice of Lodging of Consent Decree Under the Comprehensive Environmental Response, Compensation and Liability Act

Notice is hereby given that on January 29, 2004, a proposed Consent Decree in United States v. Aervoe Industries, Inc., et al., Civil Action No. C-04-00382, was lodged with the United States District court for the Northern District of California.

In this action, the United States sought reimbursement of response costs, pursuant to section 107(a) of the Comprehensive Environmental Response, Compensation and Liability Act, 42 U.S.C. 9607(a), incurred in connection with the cleanup of the Lorentz Barrel and Drum Site in San Jose, CA. Aervoe Industries, Inc., D.A. Stuart Co., Ford Motor Company, General Mills, Inc., Golden Gate Petroleum Company, K-M Industries Holding Co., Inc., Pennzoil-Quaker State Company, Salz Leathers, Inc., Sunsweet Growers, Inc., and Textron Inc. (“Defendants”) are signatories to the proposed Consent Decree. In addition, the proposed Consent Decree resolves a potential counterclaim by providing for a payment on behalf of the United States Navy. Under the proposed Consent Decree, the Defendants and the United States Navy, collectively, are required to pay $4,200,000.

The Department of Justice will receive for a period of thirty (30) days from the date of this publication comments relating to the Consent Decree. Comments should be addressed to the Assistant Attorney General, Environment and Natural Resources Division, P.O. Box 7611, U.S. Department of Justice, Washington, D.C. 20044-7611, with a copy to Matthew A. Fogelson, Trial Attorney, U.S. Department of Justice, Environment and Natural Resources Division, Environmental Enforcement Section, 301 Howard Street, Suite 1050, San Francisco, CA 94105, and should refer to United States v. Aervoe Industries, Inc., et al., D.J. Ref. 90-11-2-467/3. Commenters may request an opportunity for a public meeting in the affected area, in accordance with section 7003(d) of RCRA, 42 U.S.C. 6973(d).

The Consent Decree may be examined at the Office of the United States Attorney, 280 South First Street, Room 371, San Jose, CA, and at U.S. EPA Region IX, 75 Hawthorne Street, San Francisco, CA. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia. fleetwood@usdoj.gov), fax no. (202) 514-0097, phone confirmation number (202) 514-1547. In requesting a copy from the Consent Decree Library, please enclose a check in the amount of $7.25 (25 cents per page reproduction cost) payable to the U.S. Treasury.

Ellen M. Mahan,
Assistant Section Chief, Environmental Enforcement Section, Environment and Natural Resources Division.

[FR Doc. 04-2978 Filed 2-10-04; 8:45 am]

BILLING CODE 4410-15-M